DEFENSE NUCLEAR FACILITIES SAFETY BOARD

Sunshine Act Meeting

Pursuant to the provisions of the “Government in the Sunshine Act” (5 U.S.C. 552b), notice is hereby given of the Defense Nuclear Facilities Safety Board's (Board) public hearing and meeting described below. The Board will conduct a public hearing and meeting pursuant to 42 U.S.C. 2286b and invites any interested persons or groups to present any comments, technical information, or data concerning safety issues related to the matters to be considered.

Time and Date of Meeting: 6 p.m., March 22, 2006.

Place: Duane W. Smith Auditorium, 1400 Diamond Drive, Los Alamos, New Mexico 87544. Additionally, as a part of the Board's E-Government initiative, the hearing and meeting will be videotaped. A link to the videotape will be available on the Board's Web site (http://www.dnfsb.gov) following the hearing and meeting.

Status: Open. While the Government in the Sunshine Act does not require that the scheduled hearing be conducted in a meeting, the Board has determined that an open meeting in this specific case furthers the public interests underlying both the Sunshine Act and the Board's enabling legislation.

Matters To Be Considered: In this public hearing and meeting, the Board will examine the National Nuclear Security Administration's (NNSA) plans and actions to follow through with improvements in safety management that were identified prior to and during the suspension and resumption of operations at Department of Energy (DOE) defense nuclear facilities at Los Alamos National Laboratory (LANL). The Board anticipates testimony from the incumbent management and operation (M&O) contractor for LANL, the University of California, as well as from the contractor group, Los Alamos National Security, LLC (LANS), which was recently selected to assume the M&O contractor function in June 2006. Under the Atomic Energy Act of 1954, as amended, the Board is required, among other things, to review and evaluate the content and implementation of standards relating to the design, construction, operation, and decommissioning of DOE defense nuclear facilities, including all applicable DOE orders, regulations, and requirements pertaining to such facilities. The Board is also required to investigate any event or practice at DOE defense nuclear facilities which the Board determines has adversely affected, or may adversely affect, the health and safety of the workers and the public. In this March 22nd hearing and meeting, the Board will examine how NNSA and LANS will ensure adequate protection of the public health and safety, including that of the workers, and safety performance at LANL defense nuclear facilities. The Board will further explore health and safety-related corrective actions by NNSA and the incumbent and newly selected M&O contractors as those actions are implemented during and after the new M&O contract transition period. The Board will collect information needed to understand and address any health or safety concerns that may require Board action with respect to operations at LANL defense nuclear facilities. This will include, but is not limited to, presentations from NNSA and M&O contractor senior management officials and NNSA Los Alamos Site Office personnel. The public hearing portion of this proceeding is authorized by 42 U.S.C. 2286b.

FOR FURTHER INFORMATION CONTACT: Kenneth M. Pusateri, General Manager, Defense Nuclear Facilities Safety Board, 625 Indiana Avenue, NW, Suite 700, Washington, DC 20004-2901, (800) 788-4016. This is a toll-free number.

SUPPLEMENTARY INFORMATION: Requests to speak at the hearing and meeting may be submitted in writing or by telephone. The Board asks that commentators describe the nature and scope of their oral presentation. Those who contact the Board prior to close of business on March 21, 2006, will be scheduled for time slots, beginning at approximately 8:30 p.m on the evening of the hearing and meeting. The Board will post a schedule for those speakers who have contacted the Board before the hearing. The posting will be made at the entrance to the Duane W. Smith Auditorium at the start of the 6 p.m. hearing and meeting.

Anyone who wishes to comment or provide technical information or data may do so in writing, either in lieu of, or in addition to, making an oral presentation. The Board Members may question presenters to the extent deemed appropriate. Documents will be accepted at the hearing and meeting or may be sent to the Defense Nuclear Facilities Safety Board's Washington, DC, office. The Board will hold the record open until April 22, 2006, for the receipt of additional materials. A transcript of the hearing and meeting will be made available by the Board for inspection by the public at the Defense Nuclear Facilities Safety Board's Washington office and at DOE's public reading room at the DOE Federal Building, 1000 Independence Avenue, SW, Washington, DC 20585. The Board specifically reserves its right to further schedule and otherwise regulate the course of the hearing and meeting, to recess, reconvene, postpone, or adjourn the hearing and meeting, conduct further reviews, and otherwise exercise its powers under the Atomic Energy Act of 1954, as amended.

Dated: February 8, 2006.
A.J. Eggenberger,
Chairman.

[FR Doc. 06-1304 Filed 2-8-06; 12:25 pm]

BILLING CODE 3670-01-P